DEPARTMENT OF COMMERCE

National Oceanic and Atmospheric Administration

RIN 0648-XG102

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day meeting of its Ad Hoc Red Snapper & Grouper-Tilefish Individual Fishing Quota (IFQ) Advisory Panel.

DATES: The meeting will convene on Tuesday, April 10, 2018, from 8:30 a.m. to 5 p.m. EDT.

ADDRESSES: The meeting will take place at the Gulf of Mexico Fishery Management Council office, 2203 N. Lois Avenue, Suite 1100, Tampa, FL 33607; telephone: (813) 348-1630.

FOR FURTHER INFORMATION CONTACT: Dr. Ava Lasseter, Anthropologist, Gulf of Mexico Fishery Management Council; ava.lasseter@gulfcouncil.org, telephone: (813) 348-1630.

SUPPLEMENTARY INFORMATION:

Tuesday, April 10, 2018; 8:30 a.m.-5 p.m., EDT:

Charge Ad Hoc Red Snapper & Grouper-Tilefish IFQ AP: To assess the Grouper-Tilefish IFQ Program 5-year Review and Amendment 36B and provide recommendations to the Council relative to changes in the IFQ programs.

I. Welcome and Introductions

II. Adoption of Agenda

III. Election of Chair and Vice-Chair

IV. Council's charge to the panel and scope of work

V. Recommendations and Conclusions of the Grouper-Tilefish 5-year Review

VI. Reef Fish Amendments 36A & 36B: Modifications to Commercial IFQ Programs

VII. Other Business

- Meeting Adjourns

You may register for Ad Hoc Red Snapper & Grouper-Tilefish IFQ Advisory Panel meeting on Tuesday, April 10, 2018 at: https://attendee.gotowebinar.com/register/6202357575656933889.

The Agenda is subject to change, and the latest version along with other meeting materials will be posted on the Council's file server. To access the file server, the URL is https://public.gulfcouncil.org:5001/webman/index.cgi, or go to the Council's website and click on the FTP link in the lower left of the Council website (http://www.gulfcouncil.org). The username and password are both “gulfguest”. Click on the “Library Folder”, then scroll down to “AP Meeting_Ad Hoc Red Snapper & Grouper-Tilefish IFQ_04-10-18”.

The meeting will be webcast over the internet. A link to the webcast will be available on the Council's website, http://www.gulfcouncil.org.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: March 16, 2018.
Tracey L. Thompson,
Acting Deputy Director, Office of Sustainable Fisheries, National Marine Fisheries Service.

[FR Doc. 2018-05719 Filed 3-20-18; 8:45 am]

BILLING CODE 3510-22-P